DEPARTMENT OF HOUSING AND URBAN DEVELOPMENT

[Docket No. FR-7036-N-02]

60-Day Notice of Proposed Information Collection: Self-Help Homeownership Opportunity Program (SHOP); OMB Control No.: 2506-0157

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comment Due Date: May 24, 2021.

ADDRESSES: Interested persons are invited to submit comments regarding this proposal. Comments should refer to the proposal by name and/or OMB Control Number and should be sent to: Colette Pollard, Reports Management Officer, QDAM, Department of Housing and Urban Development, 451 Seventh Street SW, Room 4176, Washington, DC 20410-4500; telephone 202-402-3400 (this is not a toll-free number) or email at Colette.Pollard@hud.gov for a copy of the proposed forms or other available information. Person with hearing or speech impairments may access this number through TTY by calling the toll-free Federal Relay Service at (800) 877-8339.

FOR FURTHER INFORMATION CONTACT: Jackie L. Williams, Ph.D., Office of Rural Housing and Economic Development, U.S. Department of Housing and Urban Development, 451 Seventh Street SW, Room 7240, Washington, DC 20410-4500; email Jackie.Williams@hud.gov; telephone 202-708-2290. This is not a toll-free number. Persons with hearing or speech impairments may access this number through TTY by calling toll-free Federal Relay Service at (800) 877-8339. Copies of available documents submitted to OMB may be obtained from Ms. Pollard. Copies of available documents submitted to OMB for the information collection described in Section A.

SUPPLEMENTARY INFORMATION: This notice informs the public that HUD is seeking approval from OMB for the information collection described in Section A.

A. Overview of Information Collection

Title of Information Collection: Self-Help Homeownership Opportunity Program (SHOP).

OMB Approval Number: 2506-0157.

Type of Request: Extension of currently approved collection.

Form Number: HUD-424CB, HUD-2880, HUD-2993, HUD-2995, HUD-96011.

Description of the need for the information and proposed use: This is a proposed information collection for submission requirements under the SHOP Notice of Funding Availability (NOFA). HUD requires information in order to ensure the eligibility of SHOP applicants and the compliance of SHOP proposals, to rate and rank SHOP applications, and to select applicants for grant awards. Information is collected on an annual basis from each applicant that responds to the SHOP NOFA. The SHOP NOFA requires applicants to submit specific forms and narrative responses.

Respondents: National and regional non-profit self-help housing organizations (including consortia) that apply for funds in response to the SHOP NOFA.

Frequency of Submission: Annually in response to the issuance of a SHOP NOFA.

Estimation of the total number of hours needed to prepare the information collection including number of respondents, hours per response, frequency of response, and total hours of response for all respondents.

The estimates of the average hours needed to prepare the information collection are based on information provided by previous applicants. Actual hours will vary depending on the proposed scope of the applicant's program, the applicant's geographic service area and the number of affiliate organizations. The information burden is generally greater for national organizations with numerous affiliates.

Information collection | Number of respondents | Frequency of response | Responses per annual | Burden hour per response | Annual burden hours | Hourly cost per response | Annual cost
SF-424 | 10.00 | 0.00 | 0.00 | 0.00 | 00.00 | $0.00 | $0.00
HUD-424CB | 10.00 | 1.00 | 10.00 | 10.00 | 100.00 | 69.75 | 6,975.00
HUD-424CBW | 10.00 | 1.00 | 10.00 | 30.00 | 300.00 | 69.75 | 20,925.00
SF-LLL | 10.00 | 0.00 | 0.00 | 0.00 | 0.00 | 0.00 | 0.00
HUD-2880 | 10.00 | 1.00 | 10.00 | .50 | 5.00 | 69.75 | 348.75.00
HUD-2993 | 10.00 | 1.00 | 10.00 | .50 | 5.00 | 69.75 | 348.75.00
HUD-2995 | 10.00 | 1.00 | 10.00 | .50 | 5.00 | 69.75 | 348.75.00
HUD-96011 | 10.00 | 1.00 | 10.00 | .50 | 5.00 | 69.75 | 348.75.00
Applicant Eligibility | 10.00 | 1.00 | 10.00 | 10.00 | 100.00 | 69.75 | 6,975.00
SHOP Program Design and Scope of Work | 10.00 | 1.00 | 10.00 | 30.00 | 300.00 | 69.75 | 20,925.00
Rating Factor1 | 10.00 | 1.00 | 10.00 | 25.00 | 250.00 | 69.75 | 17,437.50
Rating Factor 2 | 10.00 | 1.00 | 10.00 | 25.00 | 250.00 | 69.75 | 17,437.50
Rating Factor 3 | 10.00 | 1.00 | 10.00 | 55.00 | 550.00 | 69.75 | 38,362.50
Rating Factor 4 | 10.00 | 1.00 | 10.00 | 30.00 | 300.00 | 69.75 | 20,925.00
Rating Factor 5 | 10.00 | 1.00 | 10.00 | 25.00 | 250.00 | 69.75 | 17,437.50
Total Annual Hour Burden | 10.00 | 1.00 | 10.00 | 242.00 | 2,420.00 |  | 168,795.00

B. Solicitation of Public Comments

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3506 of the Paperwork Reduction Act of 1995, 44 U.S.C. Chapter 35, as amended.

Principal Deputy Assistant Secretary for Community Planning and Development, James A. Jemison II, having reviewed and approved this document, is delegating the authority to electronically sign this document to submitter, Nacheshia Foxx, who is the Federal Register Liaison for HUD, for purposes of publication in the Federal Register.

Nacheshia Foxx,
Federal Liaison for the Department of Housing and Urban Development.

[FR Doc. 2021-06203 Filed 3-24-21; 8:45 am]

BILLING CODE 4210-67-P